DEPARTMENT OF COMMERCE

National Oceanic and Atmospheric Administration

Notice of Availability of a Final Management Plan and Final Environmental Assessment for the Channel Islands National Marine Sanctuary

AGENCY: Office of National Marine Sanctuaries, National Ocean Service, National Oceanic and Atmospheric Administration, Department of Commerce.

ACTION: Notice of availability.

SUMMARY: The National Oceanic and Atmospheric Administration (NOAA) has prepared a final management plan (FMP) as part of the Channel Islands National Marine Sanctuary (CINMS or sanctuary) management plan review. The FMP, which replaces a 2009 sanctuary management plan, addresses current and emerging threats in CINMS and reflects changes in new science and technologies, how the public uses the sanctuary, and community needs. The FMP supports continued protection of sanctuary resources through enforcement of existing sanctuary regulations, education and outreach strategies that promote ocean stewardship, and community-inclusive involvement. Consistent with the information provided in the 2019 Notice of Intent, and information gathered through public scoping to prepare a draft environmental assessment (DEA) and draft management plan (DMP) for the sanctuary, and public comments received on the DMP, NOAA is not making modifications to the sanctuary regulations at this time, but may consider regulatory changes in the future. NOAA also prepared a final environmental assessment (FEA) and a finding of no significant impact (FONSI) for this action.

DATES: The final management plan and environmental assessment for Channel Islands National Marine Sanctuary is now available.

ADDRESSES: The FMP, FEA, and FONSI are available at https://channelislands.noaa.gov/manage/plan/. The DMP is available at https://nmschannelislands.blob.core.windows.net/channelislands-prod/media/docs/2021-cinms-draft-management-plan.pdf, and the DEA is available at https://nmschannelislands.blob.core.windows.net/channelislands-prod/media/docs/2021-cinms-draft-environmental-assessment.pdf. All comments on the DMP and DEA can be viewed via the Federal eRulemaking Portal: go to https://www.regulations.gov and enter “NOAA-NOS-2019-0110” in the Search box.

FOR FURTHER INFORMATION CONTACT: Michael Murray, Deputy Superintendent for Programs, Channel Islands National Marine Sanctuary, 805-893-6418, cinmsmanagementplan@noaa.gov.

SUPPLEMENTARY INFORMATION:

I. Background

Channel Islands National Marine Sanctuary surrounds five of the eight Channel Islands: San Miguel, Santa Rosa, Santa Cruz, Anacapa, and Santa Barbara off the coast of California. The sanctuary consists of an area of approximately 1,110 square nautical miles (nmi²) (3,807 square kilometers) of coastal and ocean waters extending an average distance of 6 nautical miles (11.1 kilometers) from island shorelines, and at its deepest point, reaches 5,597 feet (1,706 meters). The sanctuary is home to numerous species of marine mammals, seabirds, fishes, invertebrates, and algae in a remarkably productive coastal environment. Within its boundary is a rich array of habitats, from rugged rocky shores and lush kelp forests to deep canyons and seagrass beds. These habitats abound with life, from tiny microscopic plants to enormous blue whales. The islands and surrounding sanctuary waters have been, and remain, sacred to Indigenous Chumash people. In addition, while the offshore location of the sanctuary limits human presence, the area supports a variety of human uses, such as recreation, tourism, commercial fishing, research, and education.

II. Management Plan Review

The purpose of this management plan review is to ensure the sanctuary is fulfilling the purposes and policies outlined in section 301(b) of the National Marine Sanctuaries Act (NMSA; 16 U.S.C. 1431(b)), and effectively protecting and managing the resources of the sanctuary. As required by section 304(e) of the NMSA (16 U.S.C. 1434(e)), a management plan review enables NOAA to evaluate the substantive progress toward implementing the sanctuary's existing management plan and the goals for the sanctuary and to revise the sanctuary's management plan and regulations as necessary to fulfill the purposes and policies of the NMSA. A revised sanctuary management plan enables NOAA's Office of National Marine Sanctuaries (ONMS) to adjust the allocation of time and resources to focus on new priority issues, partnerships, technologies and opportunities that have emerged since the existing sanctuary management was published. A revised management plan also prioritizes use of collaborative and community-based approaches to pursuing sanctuary goals, supported by a variety of partnerships with government agencies, scientific entities, tribal communities, non-governmental organizations, and sanctuary volunteers and advisory council members.

Updates to the CINMS management plan are based on ONMS's evaluation, advisory council input on the 2009 management plan, analysis of comments received on the 2019 Notice of Intent, DMP, and DEA, and findings from the latest CINMS condition report. While the condition report, using quantitative data gathered through 2016, found overall that sanctuary resources were doing well in comparison to many other ocean areas, it also highlighted several pressures and activities causing impacts to the sanctuary, such as vessel traffic, introduction of non-native species, ocean noise, marine debris, harmful algal blooms, and climate-driven changes to ocean conditions. The condition report's ecosystem services assessment also provided an important reminder about the unique and profound value of the sanctuary environment to the Indigenous Chumash people.

NOAA received 36 comments (letters and oral testimony) on the DMP and DEA during the December 17, 2021, through February 24, 2022, public review period. Altogether, the comments received contained 159 specific requests and suggestions for consideration. NOAA hosted two virtual public meetings on January 18, and January 27, 2022.

III. Action Plans

The FMP includes 11 action plans covering issue- and program-based themes that are intended to guide sanctuary staff over the coming five to ten years. Across these action plans, ONMS also emphasizes four important cross-cutting themes and approaches: addressing climate change, fostering diversity and inclusion, relying on partnerships and collaborations, and supporting community-based engagement. The following is a list of the 11 action plans:

1. Climate Change: Sanctuary waters, as well as surrounding coastal areas and communities, are experiencing climate-related stressors (e.g., ocean acidification, thermal stress, and hypoxia) that will increase in frequency and intensity over the coming decades. This action plan outlines strategies to better understand and mitigate the effects of climate change on sanctuary resources through capacity building and collaborative partnerships.

2. Marine Debris: This action plan prioritizes the assessment of marine debris within CINMS and the development of a better understanding of how marine debris affects sanctuary resources. Strategies include sustaining and expanding island shoreline cleanup efforts, pursuing collaborative efforts with the local fishing community, and implementing education and outreach initiatives with partners.

3. Vessel Traffic: A wide array of public and private vessels carry visitors and cargo while transiting through the sanctuary year-round. This action plan outlines strategies to facilitate vessel activity while protecting sanctuary resources. Some strategies include engaging boaters and the shipping industry, tracking and monitoring vessel traffic, and enacting policies to foster safe navigation and protect sanctuary resources in coordination with other agencies and partners.

4. Introduced Species: Introduced species are an increasingly common global threat, and the rate of invasion of introduced species continues to accelerate. The strategies in this action plan outline efforts to reduce the introduction, spread, and establishment of introduced species, and to track, study, and, where possible, control populations of introduced species already established in the sanctuary.

5. Zone Management: This action plan focuses on implementing effective management and enforcement strategies of existing protective zones established within the sanctuary, including the Channel Islands network of marine reserves and conservation areas designated by NOAA and the State of California.

6. Education and Outreach: This action plan seeks to increase appreciation and stewardship of sanctuary resources by building greater public understanding, engagement, and awareness throughout our diverse coastal communities. This action plan also focuses on support for sanctuary recreational activities and tourism.

7. Research and Monitoring: To expand our understanding of the sanctuary ecosystems, this action plan outlines five strategies for research and monitoring that are responsive to existing resource protection and management concerns, yet are also forward-looking to support ecosystem-based management decision making, resource protection initiatives, and education and outreach programs.

8. Resource Protection: This action plan identifies five strategies to reduce human impacts to marine wildlife and other sanctuary resources. Through collaborative management with local stakeholders and in partnership and consultation with relevant local, State, and Federal government agencies, this action plan seeks to protect the biological, historical, and cultural resources in the sanctuary from known, emerging, and future unknown threats.

9. Cultural Heritage: To respectfully honor, celebrate, and protect the unique Indigenous cultural heritage resources connected to the sanctuary, this action plan features strategies and activities that support meaningful Chumash Community collaborations, engagement with Chumash Community partners revitalizing maritime traditions, and appropriate integration of traditional ecological knowledge.

10. Maritime Heritage: This action plan describes strategies and activities focused on the understanding, protection, and interpretation of the unique maritime heritage resources and values connected to sanctuary waters.

11. Operations and Administration: This action plan addresses the necessary operational and administrative activities required for implementing an effective program, including staffing, infrastructure needs, and operational improvements.

IV. National Environmental Policy Act Compliance

As required under the National Environmental Policy Act (NEPA; 42 U.S.C. 4321 et seq.), NOAA has prepared an FEA to evaluate the potential impacts on the human environment of implementing NOAA's proposed action. With this action, NOAA is updating its management activities conducted within CINMS that relate to research, monitoring, education, outreach, community engagement, and resource protection. The management activities include the revised sanctuary management plan and implementing routine field activities and existing sanctuary regulations. As described in the FEA and FONSI, no significant impacts to resources and the human environment are expected to result from this action. Accordingly, under NEPA, an Environmental Assessment is the appropriate document to analyze the potential impacts of this action. NOAA has also prepared, as an appendix to the FEA, responses to public comments on the draft management plan and draft environmental assessment.

Authority: 16 U.S.C. 1431 et seq.; 42 U.S.C. 4321 et seq.

John Armor,
Director, Office of National Marine Sanctuaries, National Ocean Service, National Oceanic and Atmospheric Administration.

[FR Doc. 2023-04973 Filed 3-9-23; 8:45 am]

BILLING CODE 3510-NK-P